OFFICE OF THE UNITED STATES TRADE REPRESENTATIVE

Andean Trade Preference Act (ATPA), as Amended: Request for Public Comments Regarding Beneficiary Countries

AGENCY: Office of the United States Trade Representative.

ACTION: Notice; request for comments.

SUMMARY: In compliance with section 203(f) of the ATPA, as amended, 19 U.S.C. 3202(f)(2), the Office of the United States Trade Representative (USTR) is requesting the views of interested parties on whether the designated beneficiary countries are meeting the eligibility criteria under the ATPA. (See 19 U.S.C. 3203(b)(6)(B).) This information will be used in the preparation of a report to the Congress on the operation of the program.

DATES: Public comments are due no later than 5 p.m., March 6, 2009.

ADDRESSES: Comments should be submitted electronically via the Internet at http://www.regulations.gov. Business confidential information only may be submitted via e-mail to FR0518@ustr.eop.gov. See below for details.

FOR FURTHER INFORMATION CONTACT: For procedural questions concerning written comments, contact Gloria Blue, Executive Secretary, Trade Policy Staff Committee, at (202) 395-3475. All other questions regarding the ATPA should be directed to Bennett Harman, Deputy Assistant USTR for Latin America, at (202) 395-9446.

SUPPLEMENTARY INFORMATION: The ATPA, as amended by the Andean Trade Promotion and Drug Eradication Act of 2002 (ATPDEA) in the Trade Act of 2002, 19 U.S.C. 3201 et seq., provides trade benefits for eligible Andean countries. In Proclamation 7616 of October 31, 2002, the President designated Bolivia, Colombia, Ecuador, and Peru as ATPDEA beneficiary countries. In Proclamation 8323 of November 25, 2008, the President determined that Bolivia no longer satisfies the eligibility criteria and suspended Bolivia's status as a beneficiary country for purposes of the ATPA and ATPDEA. Section 203(f) of the ATPA (19 U.S.C. 3202(f)) requires the USTR, not later than April 30, 2009, to submit to Congress a report on the operation of the ATPA. Before submitting such report, USTR is required to request comments on whether beneficiary countries are meeting the criteria set forth in 19 U.S.C. 3203(b)(6)(B) (which incorporates by reference the criteria set forth in sections 3202(c) and (d)). USTR refers interested parties to the Federal Register notice published on August 15, 2002 (67 FR 53379), for a full list of the eligibility criteria.

Requirements for Submissions. Persons submitting comments must do so in English and must identify (on the first page of the submission) the “ATPA Beneficiary Countries.” Written comments must be received by March 6, 2009.

In order to ensure the most timely and expeditious receipt and consideration of comments, USTR has arranged to accept on-line submissions, with the exception of business confidential submissions, via http://www.regulations.gov. To submit testimony and comments via http://www.regulations.gov, enter docket number USTR-2009-0006 on the home page and click “go”. The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page.)

The http://www.regulations.gov Web site provides the option of making submissions by filling in a “General Comments” field, or by attaching a document. We expect that most submissions will be provided in an attached document. If a document is attached, it is sufficient to type “See attached” in the “General Comments” field.

Submissions in Microsoft Word (.doc) or Adobe Acrobat (.pdf) are preferred. If an application other than those two is used, please identify in your submission the specific application used.

Persons wishing to submit business confidential information must submit that information by electronic mail to FR0518@ustr.eop.gov. Only business confidential submissions will be accepted at FR0518@ustr.eop.gov, and business confidential submissions will not be accepted at http://www.regulations.gov; however, public or non-confidential submissions that accompany business confidential submissions should be submitted at http://www.regulations.gov. For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the character “P”, followed by the name of the person or entity submitting the comments or reply comments. Electronic submissions should not contain separate cover letters; rather, information that might appear in a cover letter should be included in the submission itself. Similarly, to the extent possible, any attachments to a submission should be included in the same file as the submission itself and not as separate files. All non-confidential comments and reply comments will be placed on the USTR Web site, http://www.ustr.gov pursuant to 15 CFR 2003.5.

Carmen Suro-Bredie,
Chairman, Trade Policy Staff Committee.

[FR Doc. E9-2601 Filed 2-6-09; 8:45 am]

BILLING CODE 3190-W9-P